DEPARTMENT OF AGRICULTURE

Agricultural Research Service

Notice of Intent To Seek Renewed Approval To Collect Information

AGENCY: Agricultural Research Service, USDA.

ACTION: Notice and request for comments.

SUMMARY: In accordance with the Paperwork Reduction Act of 1995 (Pub. L. 104-13) and Office of Management and Budget (OMB) regulations at 5 CFR part 1320 (60 FR 44978, August 29, 1995), this notice announces the Agricultural Research Service's (ARS) intention to request renewed approval for information collection from applicants for Federal financial assistance, in order to ensure compliance with civil rights laws and regulations. The initial Federal Register document for the collection of information was published 62 FR 12789, March 18, 1997.

DATES: Comments on this notice must be received by September 11, 2000 to be assured of consideration.

ADDRESSES: Submit comments and or questions to, Bruce Lee, Extramural Agreements Program Manager, Extramural Agreements Division, Administrative and Financial Management, Agricultural Research Service, U.S. Department of Agriculture, George Washington Carver Center, 5601 Sunnyside Avenue, Room 3-2174, Mail Stop 5110, Beltsville, Maryland 20770, (301) 504-1148; fax (301) 504-1262; e-mail comments to: blee@ars.usda.gov.

SUPPLEMENTARY INFORMATION: Title: Application for ARS funding for grants and assistance-type cooperative agreements.

Type of Request: Renewed approval to collect information from applicants for Federal financial assistance.

Abstract: ARS' Federally assisted programs consist of the following types of extramural awards executed under the requirements of Pub. L. 95-224, Federal Grant and Cooperative Agreement Act of 1977:

1. Grants and Assistance-Type Cooperative Agreements awarded in support of basic or applied research.

2. Grants awarded in support of research conferences and symposiums, and other non-research activity.

The U.S. Department of Justice, Civil Rights Division, has determined that ARS has the responsibility to collect such data from entities that have applied or received Federal assistance in the form of grants or assistance-type cooperative agreements in order to ensure compliance with Title VI of the Civil Rights Act of 1964, Title IX of the Education Amendments Act of 1972, and the Rehabilitation Act of 1973. Together these acts prohibit discrimination on the basis of race, color, national origin, sex, or disability in any program receiving Federal financial assistance.

ARS' data collection duties are pursuant to 28 CFR part 42 (§ § 42.401-42.15), which the Department of Justice references as the legal basis regarding Title VI for all Federal agencies extending Federal assistance. The purpose of part 42 is to insure that Federal agencies which extend financial assistance properly enforce Title VI of the Civil Rights Act of 1964. Part 42 further states that Federal agencies which extend financial assistance have the responsibility to enforce Title VI, in accordance with the authority under Executive Order 12250. In addition, the Department of Agriculture's TItle VI regulations at 7 CFR 15.5(a) require the ARS, as the administering agency, to conduct compliance reviews of the practices of recipients of ARS grants and assistance-type cooperative agreements to determine compliance with requirements of the Title VI.

Furthermore, the Department of Agriculture is responsible for ensuring compliance with Title VI pursuant to Executive Order 12250, 45 CFR 86.1 et seq., and 7 CFR 15a.1 et seq., and compliance with the Rehabilitation Act pursuant to Executive Order 12250, 28 CFR 41.1 et seq., and 7 CFR 15b.1 et seq.

Data requested to assure compliance with these Civil Rights Acts and regulations include (1) race, national origin, sex, and disability information on employees conducting the research, and membership of planning and advisory bodies, and (2) other information necessary to effectively enforce Title VI, Title IX, and the Rehabilitation Act.

Information obtained from the public includes: Federal Financial Assistance Civil Rights Assurance Questionnaires; Applications for Funding; Grants and Assistance Type Cooperative Agreement Budget Information; Other Current and Pending Federal Financial Assistance Support; Research Assurance Statements; and Assurances of Compliance with the Department of Agriculture Regulations Assuring Civil Rights Compliance Statements.

Estimated of Burden: Public reporting burden for this collection of information is estimated to average four hours per set, including the time for reviewing instructions, searching existing data sources, gathering and maintaining the data needed, and completing and reviewing the collection of information.

Respondents: Universities, animal and plant research scientists, and individuals who perform research relevant to the mission of ARS.

Estimated Number of respondents: 200.

Estimated Total Annual Burden on Respondents: 800 hours.

Comments: Comments are invited on (a) whether the renewed collection of information is necessary for the proper performance of the functions of the agency, including whether the information has practical utility; (b) the accuracy of the agency's estimated of the burden of the proposed collection of information including the validity of the methodology and assumptions used; (c) ways to enhance the quality, utility, and clarity of the information collected; and (d) ways to minimize the burden of those who respond, such as through the use of appropriate automated, electronic, mechanical, or other technological collection techniques.

All responses to this notice will be summarized and included in the request for OMB approval. All comments will also become a matter of public record.

Signed at Beltsville, Maryland.
Dated: June 19, 2000.
Gene P. Spory,
Associated Deputy Administrator, Financial Management Division.

[FR Doc. 00-17064 Filed 7-5-00; 8:45 am]

BILLING CODE 3410-03-M